DEPARTMENT OF HEALTH AND HUMAN SERVICES

National Institutes of Health

National Institute on Deafness and Other Communication Disorders; Amended Notice of Meeting

Notice is hereby given of a change in the meeting of the National Institute on Deafness and Other Communication Disorders Special Emphasis Panel, June 26, 2018, 11:00 a.m. to June 26, 2018, 2:00 p.m., National Institutes of Health, Neuroscience Center, 6001 Executive Boulevard, Rockville, MD 20852 which was published in the Federal Register on May 11, 2018, 83 FR 22091.

This meeting notice is amended to change the time of the meeting from 11:00 a.m.-2:00 p.m. to 10:00 a.m.-1:00 p.m. The meeting is closed to the public.

Dated: May 23, 2018.
Sylvia L. Neal,
Program Analyst, Office of Federal Advisory Committee Policy.

[FR Doc. 2018-11489 Filed 5-29-18; 8:45 am]

BILLING CODE 4140-01-P